DEPARTMENT OF THE INTERIOR

Bureau of Ocean Energy Management

[Docket No. BOEM-2025-0015]

Request for Information and Comments on the Preparation of the 11th National Outer Continental Shelf Oil and Gas Leasing Program MAA104000

AGENCY: Bureau of Ocean Energy Management, Interior.

ACTION: Request for information and comments.

SUMMARY: Section 18 of the Outer Continental Shelf (OCS) Lands Act requires the Department of the Interior (DOI) to invite and solicit information from interested and affected parties during the preparation of a National OCS Oil and Gas Leasing Program (National OCS Program). The 10th National OCS Program, for 2024 to 2029, was approved on December 14, 2023, and went into effect on July 1, 2024. The Bureau of Ocean Energy Management (BOEM) is soliciting information on the preparation of a new, 11th National OCS Program to, upon completion, replace the 10th National OCS Program.

DATES: BOEM must receive all comments and information by June 16, 2025.

ADDRESSES: Comments on this RFI may be submitted in one of the following ways:

1. Through the regulations.gov web portal: Navigate to http://www.regulations.gov and under the Search tab, in the space provided, type in Docket ID: BOEM-2025-0015 to submit comments and to view other comments already submitted.

2. Mailed in an envelope labeled “Comments for the 11th National OCS Oil and Gas Leasing Program” and mailed or sent by delivery service to Ms. Kelly Hammerle, Bureau of Ocean Energy Management (VAM-LD), 45600 Woodland Road, Sterling, VA 20166-9216.

FOR FURTHER INFORMATION CONTACT: Ms. Kelly Hammerle, Program Manager, at (703) 342-8867.

SUPPLEMENTARY INFORMATION: The OCS Lands Act declares that it is the policy of the United States that the OCS “is a vital national resource reserve held by the Federal Government for the public, which should be made available for expeditious and orderly development, subject to environmental safeguards, in a manner which is consistent with the maintenance of competition and other national needs.” BOEM requests information and comments from Tribal, state, and local governments, Native American and Native Alaskan organizations, Federal agencies, environmental and other public interest organizations, the oil and gas industry, non-energy industries, other interested organizations and entities, and the public, for use in the preparation of the 11th National OCS Program. BOEM is seeking a wide array of information, including but not limited to information associated with the economic, social, and environmental values of all OCS resources, as well as the potential impact of oil and gas exploration and development on OCS resources and the marine, coastal, and human environments.

Public Comment Procedure

BOEM will accept comments via the internet commenting system on regulations.gov, or by regular U.S. mail. Comments submitted by other means may not be considered. BOEM's strong preference is to receive comments via regulations.gov, except when a comment contains proprietary information. Comments should include full names and addresses of the individual submitting the comment(s). Before including personal identifying information in your comment, be aware that your entire comment—including your personal identifying information—may be made publicly available. While you can ask BOEM in your comment to withhold your personal identifying information from public review, BOEM cannot guarantee that we will be able to do so. Even if BOEM withholds your information in the context of this RFI, your submission is subject to the Freedom of Information Act (FOIA), and if your submission is requested under the FOIA, your information will only be withheld if a determination is made that one of the FOIA's exemptions to disclosure applies. Such a determination will be made in accordance with the Department's FOIA regulations and applicable law.

Background Information

Section 18 of the OCS Lands Act requires the Secretary of the Interior (Secretary) to “prepare and periodically revise, and maintain an oil and gas leasing program. . . .” The Program must “consist of a schedule of proposed lease sales indicating, as precisely as possible, the size, timing, and location of leasing activity, which [the Secretary] determines will best meet national energy needs for the five-year period following its approval. . . .” Section 18 also requires the completion of a multi-step process of public consultation and analysis before the Secretary may approve a new National OCS Program. The process to develop a new National OCS Program includes the following steps: (1) issuance of a request for information (RFI); (2) development of a Draft Proposed Program (DPP), (3) development of a Proposed Program, (4) development of a Proposed Final Program; and (5) Secretarial approval of the Program. The public will have additional opportunities to comment on the DPP and the Proposed Program documents. Note that this RFI requests information and comments on all 27 OCS Planning Areas, including the areas that are restricted from leasing by Presidential withdrawal or Congressional moratorium, as discussed below.

The National OCS Program sets forth the proposed schedule of lease sales for the subsequent five-year period, and enables the Federal Government, states, industry, and other interested parties to begin planning for the later steps in the leasing process. The Secretary decides whether to proceed with each specific lease sale on the schedule included in an approved National OCS Program.

The initiation of a new National OCS Program development process is a key aspect of implementing President Donald Trump's Executive Order (E.O) 14154, “Unleashing American Energy” (January 20, 2025), and the Secretary's Order 3418, “Unleashing American Energy” (February 3, 2025). The E.O. states that it is “in the national interest to unleash America's affordable and reliable energy and natural resources” and that it “is the policy of the United States . . . to encourage energy exploration and production on Federal lands and waters, including on the [OCS], in order to meet the needs of our citizens and solidify the United States as a global energy leader long into the future.”

The OCS is a significant source of oil and gas for the Nation's energy supply. As of April 1, 2025, BOEM administers 2,227 active oil and gas leases covering approximately 12.1 million acres, with 469 leases currently producing hydrocarbons (oil and gas). Production from these leases generates billions of dollars in revenue each year for the U.S. Treasury and state governments, while supporting hundreds of thousands of jobs. In fiscal year 2024, oil and gas leases on the OCS accounted for approximately 14 percent of domestic oil production and 2 percent of domestic natural gas production. The offshore areas of the United States are estimated to contain significant quantities of resources in yet-to-be-discovered fields. In its 2021 National Assessment of Undiscovered Oil and Gas Resources of the U.S. Outer Continental Shelf (2021 National Assessment, available at: https://www.boem.gov/2021-assessment-undiscovered-oil-and-gas-resources-nations-outer), BOEM reported that the mean estimate of undiscovered, technically recoverable oil and gas resources in the U.S. OCS consists of 68.79 billion barrels of oil and 229.03 trillion cubic feet of natural gas.

Gulf of America OCS Region

Section 50265(b)(2) of the Inflation Reduction Act (IRA) required BOEM to hold three lease sales (Cook Inlet Sale 258, Gulf of America (GOA) Sale 259, and GOA Sale 261) that were scheduled under the 2017-2022 Program but had been cancelled by the previous administration. In accordance with the IRA, BOEM held GOA Lease Sale 259 on March 29, 2023, and GOA Lease Sale 261 on December 20, 2023 (We report on Cook Inlet Sale 258 in the next section related to the Alaska OCS Region). As of April 1, 2025, there are 2,186 active leases in the GOA, 436 of which are producing hydrocarbons. BOEM assesses a mean undiscovered oil and gas resource volume of nearly 40 billion barrels of oil equivalent (BBOE) in the GOA.

The 10th National OCS Oil and Gas Leasing Program (the 2024-2029 Program), approved by the previous administration on December 14, 2023, includes three potential oil and gas lease sales, all in the GOA Program Area.

On April 1, 2024, BOEM published the Notice of Availability (NOA) of the Area Identification (Area ID) for proposed GOA Oil and Gas Lease Sales 262, 263, and 264 (89 FR 22444), and BOEM published the NOA for the Draft Programmatic Environmental Impact Statement on December 13, 2024 (89 FR 101044). Final decisions regarding any areas offered for leasing will be made after BOEM completes the required environmental review, environmental consultations, Tribal and state consultations, Coastal Zone Management Act consistency determinations, and other statutory requirements, including publishing both a Proposed and Final Notice of Sale, as required under the OCS Lands Act.

For more information on the lease sale schedule, visit: https://www.boem.gov/oil-gas-energy/lease-sales.

Alaska OCS Region

In accordance with the IRA, BOEM held Cook Inlet Lease Sale 258, offshore Alaska, on December 30, 2022.

The 10th National OCS Oil and Gas Leasing Program does not include any lease sales in the Alaska Region. However, the Arctic holds substantial oil and gas potential. In the Chukchi Sea and Beaufort Sea OCS planning areas, BOEM assesses a mean volume of 29.88 BBOE and 8.61 BBOE, respectively, of undiscovered oil and gas resource potential. As of April 1, 2025, there are three active leases in the Beaufort Sea OCS Planning Area, all of which are producing hydrocarbons, and eight active leases in the Cook Inlet OCS Planning Area, none of which are producing hydrocarbons.

Atlantic OCS Region

The 10th National OCS Oil and Gas Leasing Program does not include any lease sales in the Atlantic Region. BOEM analysis suggests that portions of the Atlantic OCS could contain significant oil and gas resource potential, with a mean undiscovered resource volume of more than 10 BBOE; however, current geological and geophysical (G&G) information regarding that potential is based largely on data collected in the 1970s and early 1980s. Tremendous advances in instrumentation and technology to acquire and analyze G&G data have been made in the intervening decades.

In recognition of these advances in G&G data acquisition and processing technology, and the need to better understand the scope of existing resources, on July 11, 2014, BOEM published a Record of Decision for the Programmatic Environmental Impact Statement for Atlantic OCS G&G activities (79 FR 42815), which established a path forward for G&G activities off the Mid- and South Atlantic coast. With the initiation of a new National OCS Program development process and, with it, the renewed potential for a lease sale in the Atlantic region, BOEM may receive new G&G permit applications in the near future. The last lease sale held in the Atlantic OCS was in 1983, and there are no active oil and gas leases in the Atlantic OCS Region.

Pacific OCS Region

No oil and gas lease sales in the four planning areas in the Pacific Region were included in the 10th National OCS Program. Eleven OCS oil and gas lease sales were held in the Pacific Region between 1963 and 1984. A total of 470 leases were issued in the 11 sales. As of April 1, 2025, there are 30 active leases offshore Southern California, all of which are producing hydrocarbons. BOEM estimates a mean undiscovered oil and gas resource volume of 13.06 BBOE on the Pacific OCS.

As a result of Congressional moratoria, subsequent Presidential actions, and consistent opposition by the States of Washington, Oregon, and California to any activity off their coasts, the Pacific OCS has not been included in any National OCS Program since the 1987-1992 Program.

Areas Made Unavailable by Congressional or Presidential Action

Not all unleased land on the OCS is available for oil and gas leasing. Under Section 12(a) of the OCS Lands Act, 43 U.S.C. 1341, the President of the United States may, from time to time, withdraw from disposition any of the unleased lands of the OCS. Restrictions on leasing may also be imposed through other means, such as Presidential proclamations pursuant to existing statutes, acts of Congress, regulatory restrictions, and management plans. BOEM maintains a list of restrictions applicable to the OCS on its “Areas Under Restriction” web page. For more information, please visit BOEM's Areas Under Restriction page at https://www.boem.gov/oil-gas-energy/leasing/areas-under-restriction.

In the DPP, BOEM will analyze all 27 OCS planning areas, including areas that may be currently unavailable for leasing. An area that is currently unavailable for leasing could still be part of a National OCS Program but could not be offered for sale until Congress and/or the President, as applicable, makes it available.

National Energy Needs

Section 18 of the OCS Lands Act requires that the Secretary consider national energy needs in formulating the National OCS Program. In developing the 11th National OCS Program, BOEM will present an analysis of the contribution of OCS oil and natural gas to the U.S. economy and the Nation's anticipated energy needs. The analysis will include discussions of the U.S. Energy Information Administration's projections of national energy needs in the Annual Energy Outlook, the potential contribution of OCS oil and natural gas production in meeting those needs, alternative sources of production, and considerations relating to national and regional energy markets. BOEM invites comments that provide information related to the Nation's future energy needs or national and regional energy markets for consideration in determining the appropriate size, timing, and location of OCS oil and gas lease sales for the 11th National OCS Program.

OCS Planning Areas To Be Considered and Analyzed

Section 18 of the OCS Lands Act requires the National OCS Program to be based on a consideration of a comparative analysis of the oil- and gas-bearing regions of the OCS. For the 11th National OCS Program, BOEM has divided the OCS into 27 planning areas, which are depicted in Figure 1. The depicted maritime boundaries and limits, as well as divisions between planning areas, where shown, are for planning and administrative purposes only. Note that precise maritime boundaries between the United States and nearby or adjacent nations have not been determined in all cases. These depictions do not affect or prejudice in any manner the position of the United States, or its individual states, with respect to the nature or extent of internal waters or of sovereign rights or jurisdiction.

BILLING CODE 4340-98-P

BILLING CODE 4340-98-C

Please note that changes to BOEM's jurisdiction have occurred since BOEM last established these planning area subdivisions, and BOEM modified its planning areas to account for these changes. The number of total OCS planning areas has increased by one. More information on these changes was announced in the Federal Register on April 30, 2025, in a notice entitled, “Revising the Outer Continental Shelf Planning Areas to Address Jurisdictional Changes,” published in the Notices section of this issue of the Federal Register.

This RFI requests information on all 27 planning areas, including areas that are currently under moratorium, have been withdrawn, or are otherwise unavailable. As set forth in more detail later in this RFI, the information requested is wide-ranging, including information on other uses of the sea and seabed, marine productivity, and environmental sensitivity. Accordingly, this RFI invites and provides an opportunity for Tribal governments, governors of affected states, Native American and Native Alaskan organizations, local governments, industry, Federal agencies, and the general public to provide suggestions and any other information they believe BOEM should evaluate during the development of the 11th National OCS Program.

The information solicited in this RFI will be considered in light of the factors specified by Section 18 of the OCS Lands Act, which are discussed later herein. Based on consideration of the analysis of those factors, the Secretary will prepare the DPP and decide which areas to include therein. Pursuant to Section 18 of the OCS Lands Act, areas included in the DPP decision will be subject to further analysis.

Section 18 of the OCS Lands Act

As previously noted, the National OCS Program preparation process will follow all the procedural and substantive requirements of Section 18 of the OCS Lands Act. This RFI solicits information and comments early in the preparation process pursuant to Section 18(c)(1) of the OCS Lands Act, 43 U.S.C. 1344(c)(1). BOEM will prepare an analysis based on consideration of the information and comments received and analysis of the principles and factors specified in Section 18 of the OCS Lands Act. Based on that analysis, the Secretary will prepare a Draft Proposal, which is called the DPP, that outlines a preliminary schedule of proposed lease sales and potential decision options. The DPP will be made available for review and comment.

Section 18 of the OCS Lands Act provides that, for purposes of preparing a National OCS Program, the Secretary should take into consideration the economic, social, and environmental values of all OCS resources, as well as the potential impact of oil and gas exploration and development on resource values of the OCS and the marine, coastal, and human environments. The eight factors that must be considered in determining the timing and location of leasing under the National OCS Program are set forth in Section 18(a)(2) of the OCS Lands Act, 43 U.S.C. 1344(a)(2). They are (1) existing information on the geographical, geological, and ecological characteristics of OCS regions; (2) an equitable sharing of developmental benefits and environmental risks among the various regions; (3) the location of such regions with respect to, and the relative needs of, regional and national energy markets; (4) the location of such regions with respect to other uses of the sea and seabed, including fisheries, navigation, existing or proposed sea lanes, potential sites of deepwater ports, and other anticipated uses of the resources and space of the OCS; (5) the interest of potential oil and gas producers in the development of oil and gas resources as indicated by exploration or nomination; (6) laws, goals, and policies of affected States, which have been specifically identified by Governors of such States as relevant matters for the Secretary's consideration; (7) the relative environmental sensitivity and marine productivity of different areas of the OCS; and (8) relevant environmental and predictive information for different areas of the OCS.

Section 18(a)(3) of the OCS Lands Act (43 U.S.C. 1344(a)(3)) requires the Secretary to obtain a proper balance among the potential for environmental damage, the potential for discovery of oil and gas, and the potential for adverse impact on the coastal zone, for which BOEM will provide a cost-benefit analysis, as appropriate, to supplement qualitative consideration of these factors. The OCS Lands Act also requires that leasing activities assure the receipt of fair market value for the lands leased and rights conveyed by the Federal government in the OCS (Section 18(a)(4) of the OCS Lands Act, 43 U.S.C. 1344(a)(4)).

Environmental Analysis

For previous National OCS Program development cycles, BOEM has prepared a Programmatic Environmental Impact Statement (EIS) pursuant to the National Environmental Policy Act (NEPA) to support the Section 18 analysis described above. BOEM has done this even though environmental analysis under NEPA is not required for a National OCS Program. Accordingly, for the 11th National OCS Program, in lieu of a NEPA analysis, BOEM will prepare an environmental analysis document that will contain those Section 18 analyses that involve environmental considerations to inform the Secretary of the potential environmental impacts of the Program. This approach aligns with two recent decisions from the United States Court of Appeals for the District of Columbia (D.C. Circuit) (Center for Biological Diversity v. Department of the Interior, 563 F.3d 466 (D.C. Cir. 2009); Center for Sustainable Economy v. Jewell, 779 F.3d 588 (D.C. Cir. 2015)) that found that NEPA was unripe at the National OCS Program stage. While this standalone analysis will not be a NEPA document, it will provide, in some ways, substantively similar content to what would be included in a Programmatic EIS but will focus on the Section 18 factors and analyses. The document will not include an analysis of alternatives, but the analysis will focus on the potential environmental impacts of oil and gas development in the areas of the OCS where leasing may occur and discuss how those impacts may vary among areas.

In the environmental analysis document, BOEM will consider environmentally sensitive areas that could be considered for exclusion from leasing as part of the Section 18 winnowing process, where only those areas that the Secretary decides are appropriate to carry forward for further consideration are analyzed in the next phase of the Program development process. Therefore, BOEM plans to solicit nominations for areas that may be considered for exclusion during the public comment period for the DPP. These areas may be analyzed in the environmental analysis document to disclose whether the exclusion of that area could result in fewer potential impacts to environmental resources. During the Program development process, BOEM already considers the entirety of each oil and gas planning area in its analyses; ideally, additional nominations for areas to exclude from leasing would be discrete geographic areas that are smaller than a planning area (e.g., areas of sensitive bottom habitat in the GOA).

Types of Information and Comments Requested

BOEM invites comments from anyone who would like to submit information and/or suggestions for consideration in determining, among other things, the appropriate size, timing, and location of potential OCS oil and gas lease sales under the 11th National OCS Program. Please note that BOEM invites all private and public stakeholders, Tribes or Tribal Governments, as well as the general public, to comment or provide any information that they believe should be taken into consideration by BOEM during the preparation of the 11th National OCS Program.

General Information Requested

BOEM would like to receive comments and suggestions of national or regional application that would be useful in formulating the 11th National OCS Program. The types of information that would be most useful in conducting the analysis, pursuant to Section 18 of the OCS Lands Act, relate to the following factors:

(1) National energy needs for the five year period relevant to the 11th National OCS Program, in particular, the role of OCS oil and gas leasing and resulting exploration, development, and production activities in achieving national energy policy goals; the economic, social, and environmental values of the non-renewable and renewable resources contained in the OCS; and the potential impact of oil and gas exploration and development on OCS resource values and the marine, coastal, and human environments;

(2) Existing information concerning geographical, geological, and ecological characteristics of the OCS planning areas and near-shore and coastal environments;

(3) Equitable sharing of developmental benefits and environmental risks among the various planning areas;

(4) Location of planning areas with respect to, and the relative needs of, regional and national energy markets;

(5) Other uses of the sea and seabed, including commercial and recreational fisheries; navigation; military activities; existing or proposed sea lanes; potential sites of deepwater ports (including liquefied natural gas facilities); subsea cables; satellite launch activities; potential offshore wind, wave, current, or other alternative energy sites; and other anticipated uses of OCS resources and locations;

(6) Relative environmental sensitivity and marine productivity of the different planning areas and/or a specific section(s) of a given OCS planning area;

(7) Environmental and predictive information pertaining to offshore and coastal areas potentially affected by OCS oil and gas development including, but not limited to, socio-cultural and archaeological information; and

(8) Methods and procedures for assuring the receipt of fair market value for lands leased.

Fair Market Value Information Requested

In developing the methods and procedures for assuring the receipt of fair market value for lands leased under Section 18(a)(4) of the OCS Lands Act, 43 U.S.C. 1344(a)(4), BOEM sets lease fiscal and temporal terms, and other features relevant to bidding. Given BOEM's responsibility to ensure fair market value for the U.S. Government, BOEM is seeking information in response to the following questions:

(1) If DOI continues leasing in the GOA planning areas, are there changes to the lease terms that BOEM has offered in previous GOA sales that would better meet the objectives of the OCS Lands Act and are permissible under 43 U.S.C. 1337? Lease terms that could be subject to change include:

a. Minimum bids.

b. Rental rates.

c. Royalty rates, royalty structures (e.g., flat or price-based). (Noting that the IRA sets the minimum royalty rate at 16⅔ percent and the maximum royalty rate at 18¾ percent).

d. Primary term and extended primary term (e.g., 5 years plus 3 years more if certain drilling conditions are met).

(2) If DOI offers acreage for lease in planning areas outside the GOA, what lease terms (see items 1a. through 1d. above) for each planning area would best meet the objectives and limitations of the OCS Lands Act?

a. Is there an alternative design (e.g., auction-type design) that may be better suited to achieve fair market value, either by changing the bidding variable or some other aspect of the competitive lease sale while still meeting the requirements of 43 U.S.C. 1337?

b. Should BOEM consider the use of alternative and/or non-traditional fiscal terms, primary lease terms, auction formats, or tract offering sizes during the development of the 11th National OCS Program? Please state which of these features of the leasing process merit consideration for future use, and where and under what conditions those changes might be useful, and explain why such a change would be necessary or beneficial (e.g., demonstrate that exploration would not occur in selected frontier areas without larger than traditionally sized tracts in lease sales).

Please note that BOEM is requesting information on these topics to inform its continuing evaluation of market conditions, available resources, bidding patterns (if applicable), and competitiveness of OCS lease terms with respect to each proposed sale. BOEM is asking for public input regarding lease terms or potential changes to lease terms concerning acreage offered during the 11th National OCS Program.

Specific Information Requested

From States

For coastal states, pursuant to Section 18(f)(5) of the OCS Lands Act (43 U.S.C. 1344(f)(5)) and BOEM's implementing regulations at 30 CFR 556.202, BOEM requests information concerning the relationship between OCS oil and gas activity and the states' coastal zone management programs that are being developed, or are administered, under Section 305 or Section 306 of the Coastal Zone Management Act of 1972, as amended, (16 U.S.C. 1454, 1455). BOEM also requests that non-coastal and coastal states submit information concerning environmental risk and potential for damage to coastal and marine resources associated with OCS development, information related to other uses of the sea and seabed, and any information that is relevant to equitable sharing of developmental benefits and environmental risks associated with OCS oil and gas activity (or the likely energy substitutes in the absence of new OCS leasing). In addition, for non-coastal and coastal states, information is requested on the impacts of additional OCS leasing, exploration, production, and the associated economic impact on the state and national economies and citizens, including impacts to employment, existing and new industries, and state taxes.

From Oil and Gas Industry

Pursuant to Section 18(a)(2)(E) of the OCS Lands Act (43 U.S.C. 1344(a)(2)(E)), during the preparation of the 11th National OCS Program, BOEM will take into account the interest of potential oil and gas producers in the development of oil and gas resources, as indicated by exploration or nomination. Industry respondents should base this information upon their expectations as of 2025. For each planning area in which industry respondents are interested, they should submit information concerning unleased hydrocarbon potential, future oil and gas price expectations, and other relevant information that the industry respondent uses in making OCS oil and gas leasing decisions. BOEM requests that industry respondents provide additional information, as specified below:

(1) Indicate the OCS planning area(s) where the industry respondent would be interested in acquiring oil and gas leases, regardless of whether the area currently is unavailable. If more than one planning area is of interest, rank all areas of interest in order of preference.

(2) Indicate the number and timing of lease sales in the period that would be appropriate for each planning area. If only one lease sale in a planning area is appropriate, indicate whether that area should be considered for leasing early or late in the five-year schedule. If more than one lease sale in a planning area is suggested, indicate the preferred interval between lease sales.

(3) Indicate the expected lead time to production in areas that currently do not have infrastructure or production, relative to lead times to new production in previously leased areas like the Central and Western GOA planning areas.

(4) Section 18(g) of the OCS Lands Act (43 U.S.C.1344(g)) authorizes confidential treatment of privileged or proprietary information. To ensure security and confidentiality of proprietary information to the maximum extent possible, BOEM requests that proprietary information only be sent by U.S. mail. In addition to prominently stating that proprietary information is contained in the comment at the beginning of the submission, comments should be sent in a plain outer envelope with an inner envelope stating that proprietary information is contained within.

From the U.S. Department of Commerce

Pursuant to Section 18(f)(5) of the OCS Lands Act (43 U.S.C.1344(f)(5)) and the Department's implementing regulations at 30 CFR 556.202, BOEM requests information concerning relationships between affected states' coastal zone management programs and OCS oil and gas activities. Concurrent with the publication of this RFI, BOEM will also send a letter to the Secretary of Commerce soliciting such information.

From the U.S. Department of Energy

Pursuant to BOEM's regulations at 30 CFR 556.202, BOEM requests information concerning regional and national energy markets and transportation networks. Concurrent with the publication of this RFI, BOEM will also send a letter to the Secretary of Energy soliciting such information.

From the U.S. Department of Defense

BOEM respects the needs of the Department of Defense (DOD) in its mission to protect the United States and continues to work closely with DOD to understand and identify potential measures to address any conflicts on the OCS. Multiple use challenges are a concern in many OCS areas, in particular, the military's use of portions of the Mid- and South Atlantic planning areas. As in the past, BOEM requests that the DOD provide textual and graphic information as to the areas where DOD believes there may be overlap between DOD activities and oil and gas operations. BOEM and DOD are committed to working through multiple use challenges so that each of our important missions are accomplished. Such detailed cooperation already occurs in the GOA and offshore California. During preparation of the 2017-2022 Program, DOD identified 95 percent of the proposed Atlantic Program Area as largely compatible with oil and gas activities, as long as appropriate mitigation measures are applied.

Walter D. Cruickshank,
Acting Director, Bureau of Ocean Energy Management.

[FR Doc. 2025-07479 Filed 4-29-25; 8:45 am]

BILLING CODE 4340-98-P